NUCLEAR REGULATORY COMMISSION

[NRC-2017-0071]

Biweekly Notice: Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from February 14 to February 27, 2017. The last biweekly notice was published on February 28, 2017.

DATES: Comments must be filed by April 13, 2017. A request for a hearing must be filed by May 15, 2017.

ADDRESSES: You may submit comments by any of the following methods:

• Federal Rulemaking Web site: Go to http://www.regulations.gov and search for Docket ID NRC-2017-0071. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411 email: Shirley.Rohrer@nrc.gov.

SUPPLEMENTARY INFORMATION:

I. Obtaining Information and Submitting Comments

A. Obtaining Information

Please refer to Docket ID NRC-2017-0071, facility name, unit number(s), plant docket number, application date, and subject when contacting the NRC about the availability of information for this action. You may obtain publicly-available information related to this action by any of the following methods:

• Federal Rulemaking Web site: Go to http://www.regulations.gov and search for Docket ID NRC-2017-0071.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2017-0071, facility name, unit number(s), plant docket number, application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by May 15, 2017. The petition must be filed in accordance with the filing instructions in the “Electronic Submissions (E-Filing)” section of this document, and should meet the requirements for petitions set forth in this section, except that under 10 CFR 2.309(h)(2) a State, local governmental body, or federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC's Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Progress, LLC, Docket Nos. 50-325 and 50-324, Brunswick Steam Electric Plant, Units 1 and 2, Brunswick County, North Carolina

Date of amendment request: October 27, 2016. A publicly-available version is in ADAMS under Accession No. ML16319A128.

Description of amendment request: The amendments would revise the technical specifications (TSs) to be consistent with Technical Specification Task Force (TSTF) Traveler TSTF-529, “Clarify Use and Application Rules.” The revisions include sections related to completion times, limiting condition for operation (LCO) applicability, and surveillance requirement (SR) applicability, of the TSs to clarify the use and application of the TS usage rules.

Basis for proposed no significant hazards consideration determination: As required by 10 CFR 50.91(a), the licensee has provided its analysis of the issue of no significant hazards consideration, which is presented below:

1. Does the proposed change involve a significant increase in the probability or consequences of an accident previously evaluated?

Response: No.

The proposed changes to Section 1.3 and LCO 3.0.4 have no effect on the requirement for systems to be Operable and have no effect on the application of TS actions. The proposed change to SR 3.0.3 states that the allowance may only be used when there is a reasonable expectation the surveillance will be met when performed. Since the proposed changes do not significantly affect system Operability, the proposed changes will have no significant effect on the initiating events for accidents previously evaluated and will have no significant effect on the ability of the systems to mitigate accidents previously evaluated.

Therefore, it is concluded that this change does not involve a significant increase in the probability or consequences of an accident previously evaluated.

2. Does the proposed change create the possibility of a new or different kind of accident from any accident previously evaluated?

Response: No.

The proposed change to the TS usage rules does not affect the design or function of any plant systems. The proposed change does not change the Operability requirements for plant systems or the actions taken when plant systems are not operable.

Therefore, it is concluded that this change does not create the possibility of a new or different kind of accident from any accident previously evaluated.

3. Does the proposed change involve a significant reduction in a margin of safety?

Response: No.

The proposed change clarifies the application of Section 1.3 and LCO 3.0.4 and does not result in changes in plant operation. SR 3.0.3 is revised to allow application of SR 3.0.3 when an SR has not been previously performed if there is reasonable expectation that the SR will be met when performed. This expands the use of SR 3.0.3 while ensuring the affected system is capable of performing its safety function. As a result, plant safety is either improved or unaffected.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, 550 South Tryon Street, M/C DEC45A, Charlotte, NC 28202.

NRC Branch Chief: Benjamin G. Beasley.

FirstEnergy Nuclear Operating Company, et al, Docket No. 50-346, Davis-Besse Nuclear Power Station (DBNPS), Unit No. 1, Ottawa County, Ohio

Date of amendment request: January 11, 2017. A publicly-available version is in ADAMS under Accession No. ML17011A271.

Description of amendment request: The licensee proposes to change the technical specifications (TSs) for DBNPS, Unit No. 1, to extend the allowed outage time (AOT) for the ultrasonic flow meter (UFM) and to make administrative changes to TS 3.3.1, “Reactor Protection System (RPS) Instrumentation.”

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would extend the existing UFM AOT to 72 hours. There are no modifications to the plant being made. As there are no modifications to the plant or a change in plant control systems, extending the UFM outage would not significantly increase accident probability.

Accident consequences are, in part, dependent on the operating power level of the reactor assumed in accident analyses. The UFM is used to obtain information needed to perform a calorimetric heat balance calculation to determine reactor power output and maintain operation within accident analysis limits. The proposed amendment would permit measurements from FW [feedwater] venturis and RTDs [resistance temperature detectors] to be substituted for UFM measurements while maintaining a stable power level during a 72-hour period. Venturi-based FW flow measurements would be normalized to the last UFM-based measurements used as input to a calorimetric heat balance and would have a nearly identical degree of uncertainty as UFM measurements for the duration of the proposed AOT when stable thermal power conditions are maintained. Therefore, calculated reactor power based on normalized FW flow venturi measurements will continue to be maintained within accident analysis limits, ensuring that accident consequences will not be significantly increased.

Therefore, the proposed change does not involve a significant increase in the probability or consequences of an accident previously evaluated.

2. Does the proposed amendment create the possibility of a new or different kind of accident from any accident previously evaluated?

Response: No.

The proposed amendment would extend the existing UFM AOT to 72 hours. Modifications to the plant are not being made. FW flow venture measurements that are normalized to the last UFM-based measurements used as input to a calorimetric heat balance have a nearly identical degree of uncertainty as UFM measurements for the duration of the proposed AOT when stable thermal power conditions are maintained. Calculated reactor power based on normalized FW flow venturi measurements will continue to be maintained within accident analysis limits.

Therefore, the proposed change does not create the possibility of a new or different kind of accident from any previously evaluated.

3. Does the proposed amendment involve a significant reduction in a margin of safety?

Response: No.

The proposed amendment would permit the plant to operate at rated thermal power for up to 72 hours after the last calorimetric heat balance based on UFM readings before reducing power. A plant-specific statistical evaluation of the difference between historical UFM-based FW flow measurements and venturi-based FW flow measurements has demonstrated that the average difference does not vary significantly over short periods of time. Therefore, if current venturi-based FW flow measurements are normalized to the last UFM-based measurements used as input to a calorimetric heat balance no greater than 72 hours prior, a nearly identical degree of uncertainty would be obtained with the venturis as with the UFM. The proposed amendment restricts application of the 72-hour AOT to conditions when the plant is operated consistently above 90 percent RTP [rated thermal power] during the 72-hour period to avoid changes in FW flow or temperature that have potential to de-foul venturis and affect measurements.

As the proposed change will result in the same degree of uncertainty in reactor power calculations using alternate measurements as with using the UFM, there is no significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: David J. Wrona.

Florida Power & Light Company, Docket Nos. 50-250 and 251, Turkey Point Nuclear Generating, Unit Nos. 3 and 4, Miami-Dade County, Florida

Date of application for amendment: December 21, 2016. A publicly-available version is in ADAMS under Accession No. ML17012A084.

Description of amendment request: The amendments would modify the Technical Specifications (TSs) for the Engineered Safety Features Actuation System (ESFAS) instrumentation. The amendments would modify the completion times of required actions for inoperable instrumentation channels for auxiliary feedwater actuation on bus stripping and on trip of all main feedwater pump breakers.

Basis for proposed no significant hazards consideration determination: As required by 10 CFR 50.91(a), the licensee has provided its analysis of the issue of no significant hazards consideration, which is presented below:

1. Does the proposed amendment involve a significant increase in the probability or consequences of an accident previously evaluated?

Response: No.

The proposed change modifies ACTION 23 of TS 3.3.2, Table 3.3-2, to establish a 48-hour completion time for restoring two anticipatory ESFAS functions. The instrumentation associated with the proposed changes are not initiators of any accident previously evaluated, so the probability of accidents previously evaluated is unaffected. The proposed changes will not impact assumptions or conditions previously used in the radiological consequence evaluations. The subject ESFAS functions are not relied upon for accident mitigation and thus the proposed changes cannot affect the radiological consequences. The proposed changes will not impact any plant systems such that previously analyzed SSCs [systems, structures, and components] would be more likely to fail. The subject ESFAS functions will continue to be maintained and operated in a manner consistent with their intended function. The proposed changes do not adversely affect the protective and mitigative capabilities of the plant. The offsite and Control Room doses will continue to meet the requirements of 10 CFR 100, 10 CFR 50.67, and 10 CFR 50 Appendix A.

Therefore, the proposed changes do not result in a significant increase in the probability or consequences of an accident previously evaluated.

2. Does the proposed amendment create the possibility of a new or different kind of accident from any accident previously evaluated?

Response: No.

The proposed change modifies the TS ACTION for two restoring anticipatory ESFAS functions. No new or different interactions with safety-related SSCs are created by the proposed change. The proposed changes will not introduce failure mechanisms, malfunctions, or accident initiators not already considered in the design and licensing bases. The subject ESFAS functions will continue to be operated and maintained such that the possibility of a new or different type of equipment malfunction is not created. No new accident scenarios, transient precursors, or limiting single failures are introduced as a result of the proposed changes.

Therefore, the proposed changes do not create the possibility of a new or different accident from any accident previously evaluated.

3. Does the proposed amendment involve a significant reduction in a margin of safety?

Response: No.

The proposed change modifies the TS ACTION for restoring two anticipatory ESFAS functions. The subject ESFAS functions are not relied upon for accident mitigation and are not credited in design bases accident analyses. Hence the proposed changes cannot alter any safety analyses assumptions, safety limits, limiting safety system settings, or methods of operating the plant. The proposed changes do not adversely impact plant operating margins or the reliability of equipment credited in the safety analyses. No changes in the methods, values or limits of a safety related function or accident analysis result from the proposed changes.

Therefore, the proposed changes would not involve a significant reduction in the margin of safety.

The NRC staff has reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd. MS LAW/JB, Juno Beach, FL 33408-0420.

NRC Branch Chief: Benjamin G. Beasley.

Florida Power & Light Company, Docket Nos. 50-250 and 50-251, Turkey Point Nuclear Generating Unit Nos. 3 and 4, Miami-Dade County, Florida

Date of amendment request: December 21, 2016. A publicly-available version is in ADAMS under Accession No. ML17012A085.

Description of amendment request: The amendments would revise technical specifications (TSs) by deleting high range noble gas effluent monitors' requirements and relocating the requirements to the Turkey Point Offsite Dose Calculation Manual (ODCM).

Basis for proposed no significant hazards consideration determination: As required by 10 CFR 50.91(a), the licensee has provided its analysis of the issue of no significant hazards consideration, which is presented below:

1. Does the proposed amendment involve a significant increase in the probability or consequences of an accident previously evaluated?

Response: No.

The Plant Vent Exhaust, Condenser Air Ejectors Exhaust and Unit 3 Spent Fuel Pit Exhaust high-range noble gas monitoring instrumentation are not an initiator of any accidents previously evaluated, so the probability of accidents previously evaluated is unaffected by the proposed changes. The proposed changes will not impact any plant systems such that previously analyzed structures, systems, and components (SSCs) would be more likely to fail. The proposed changes do not adversely affect the protective and mitigative capabilities of the plant nor the offsite and control room dose projections associated with any design basis accident described in the FSAR [Final Safety Analysis Report].

Therefore, the proposed changes do not result in a significant increase in the probability or consequences of an accident previously evaluated.

2. Does the proposed amendment create the possibility of a new or different kind of accident from any accident previously evaluated?

Response: No.

The proposed change removes the subject instruments from the accident monitoring TS and as such is an administrative change in nature. The Plant Vent Exhaust, Condenser Air Ejectors Exhaust and Unit 3 Spent Fuel Pit Exhaust high-range noble gas monitoring instrumentation will continue to perform their specified function. Removal of the monitors from the TS will not create the possibility of a new or different kind of accident. No new or different interactions with safety related systems or components are created. The proposed changes will not introduce new failure mechanisms, malfunctions, or accident initiators not already considered in the design and licensing bases. The possibility of a new or different malfunction of safety-related equipment is not created. No new accident scenarios, transient precursors, or limiting single failures are introduced as a result of these changes. There will be no adverse effects or challenges imposed on any safety-related system as a result of the proposed changes.

Therefore, the proposed changes do not create the possibility of a new or different accident from any accident previously evaluated.

3. Does the proposed amendment involve a significant reduction in a margin of safety?

Response: No.

The proposed change relocates the Plant Vent Exhaust, Condenser Air Ejectors Exhaust and Unit 3 Spent Fuel Pit Exhaust high-range noble gas monitoring requirements from TS 3.3.3.3, Accident Monitoring, to the Turkey Point ODCM, and as such is an administrative change in nature. The changes do not adversely impact plant operating margins or the reliability of equipment credited in the safety analyses. Consequently, there will be no change in the ability to monitor post-accident plant conditions, radionuclide releases, and public doses. The safety analyses acceptance criteria are not affected by these changes. The proposed changes will not result in plant operation outside of the design basis.

Therefore, operation in accordance with the proposed amendment would not involve a significant reduction in a margin of safety.

The NRC staff has reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd., MS LAW/JB, Juno Beach, FL 33408-0420.

NRC Branch Chief: Benjamin G. Beasley.

South Carolina Electric & Gas Company and South Carolina Public Service Authority, Docket Nos. 52-027 and 52-028, Virgil C. Summer Nuclear Station, Units 2 and 3, Fairfield, South Carolina

Date of amendment request: December 21, 2016. A publicly-available version is in ADAMS under Accession No. ML16357A403.

Description of amendment request: The requested amendment requires changes to Combined License (COL) Appendix C (and corresponding changes to plant-specific Tier 1 information) to be consistent with information documented in the Updated Final Safety Analysis Report (UFSAR). The requested amendment involves changes to the physical separation requirements between Class 1E division cables and between Class 1E and non-Class 1E cables described in COL Appendix C (and plant-specific Tier 1) Table 3.3-6. The proposed changes add additional acceptable configurations for raceway separation in the main control room (MCR) and remote shutdown room (RSR). Pursuant to the provisions of 10 CFR 52.63(b)(1), an exemption from elements of the design as certified in the 10 CFR part 52, appendix D, design certification rule is also requested for the plant-specific Design Control Document Tier 1 material departures.

Basis for proposed no significant hazards consideration determination: As required by 10 CFR 50.91(a), the licensee has provided its analysis of the issue of no significant hazards consideration, which is presented below:

1. Does the proposed amendment involve a significant increase in the probability or consequences of an accident previously evaluated?

Response: No.

This activity revises the raceway spacing configurations and permits spacing in accordance with existing licensing basis requirements, Regulatory Guide (RG) 1.75 and Institute of Electrical and Electronics Engineers (IEEE) 384 for the MCR and RSR.

The proposed consistency change to revise separation requirements for MCR and RSR raceways does not inhibit any systems, structures or components (SSCs) from performing their safety-related function, as raceways in the MCR and RSR are installed in accordance with spacing configurations currently specified in the UFSAR or in the code of record, IEEE 384. This proposed amendment does not have an adverse impact on the response to anticipated transients or postulated accident conditions because the functions of the SSCs are not changed. The change does not involve an interface with any SSC accident initiator or initiating sequence of events, and thus, the probabilities of the accidents evaluated in the UFSAR are not affected. Accidents associated with raceway separation are not identified in the safety analysis. The proposed changes do not involve a change to the predicted radiological releases due to postulated accident conditions, thus, the consequences of the accidents evaluated in the UFSAR are not affected.

Therefore, the proposed amendment does not involve a significant increase in the probability or consequences of an accident previously evaluated.

2. Does the proposed amendment create the possibility of a new or different kind of accident from any accident previously evaluated?

Response: No.

The proposed changes to the inspection criteria for raceway separation requirements does not adversely affect any safety-related equipment, and does not add any new interfaces to safety-related SSCs. This change provides consistency between the COL Appendix C and the UFSAR and industry standards only. System, design functions and equipment qualification are not adversely affected by these changes. The changes do not introduce a new failure mode, malfunction or sequence of events that could affect plant safety or safety-related equipment as the change is for consistency with existing licensing basis requirements and industry standards. New credible failure modes are not introduced by the changes in separation requirements.

Therefore, the proposed amendment does not create the possibility of a new or different kind of accident from any accident previously evaluated.

3. Does the proposed amendment involve a significant reduction in a margin of safety?

Response: No.

The proposed change maintains compliance with the applicable Codes and Standards, thereby maintaining the margin of safety associated with these SSCs. The proposed change does not alter any applicable design codes, code compliance, design function, or safety analysis. Consequently, no safety analysis or design basis acceptance limit/criterion is challenged or exceeded by the proposed change, thus the margin of safety is not reduced.

Therefore, the proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius, LLC, 1111. Pennsylvania NW., Washington, DC 20004-2514.

NRC Branch Chief: Jennifer Dixon-Herrity.

South Carolina Electric & Gas Company and South Carolina Public Service Authority, Docket Nos. 52-027 and 52-028, Virgil C. Summer Nuclear Station, Units 2 and 3, Fairfield, South Carolina

Date of amendment request: December 21, 2016. A publicly-available version is in ADAMS under Accession No. ML16356A437.

Description of amendment request: The requested amendment consists of changes to plant-specific Tier 1 (and Combined License Appendix C) Tables 2.7.5-1, 2.7.5-2, and 2.7.7-3 and associated Updated Final Safety Analysis Report (UFSAR) text, tables, and figures related to: (1) Modifying the configuration of the containment recirculation fan coil unit assemblies of the containment recirculation cooling system (VCS) and revising the values for the various design parameters affected by this re-configuration; (2) adding a fourth pressure differential indicator to the radiologically controlled area ventilation system (VAS) to be located in the auxiliary building component cooling system valve room; and (3) reducing the total ventilation flow provided through the VAS fuel handling area ventilation subsystem as a result of a reduction in heat loads in the areas serviced by the VAS.

Pursuant to the provisions of 10 CFR 52.63(b)(1), an exemption from elements of the design as certified in the 10 CFR part 52, Appendix D, design certification rule is also requested for the plant-specific Design Control Document Tier 1 material departures.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the VCS include control of the air temperature and reduction of humidity in the containment to provide a suitable environment for equipment operability during normal power operation, and for personnel accessibility and equipment operability during refueling and shutdown. The proposed changes for the VCS address changes in total required design air flow rates and total design cooling and heating requirements, thereby maintaining these design functions.

The design functions of the VAS include prevention of the unmonitored release of airborne radioactivity to the atmosphere or adjacent plant areas, by maintaining a negative pressure differential in radiologically controlled areas of the auxiliary building, maintaining occupied areas and access and equipment areas within their design temperature range, and providing outside air for plant personnel. The proposed changes for the VAS enable pressure differential monitoring and control for an area of the auxiliary building that is physically remote and separate from the currently monitored and controlled areas, and provide VAS supply air flow rate and total ventilation flow through the auxiliary building fuel handling area required to maintain occupied areas and access and equipment areas within their design temperature range and to provide outside air for plant personnel, maintaining these design functions.

The proposed changes do not affect the operation of any systems or equipment that initiate an analyzed accident or alter any structure, system, or component (SSC) accident initiator or initiating sequence of events. There are no inadvertent operations or failures of the VCS or VAS considered as accident initiators or part of an initiating sequence of events for an accident previously evaluated. Therefore, the probabilities of the accidents previously evaluated in the UFSAR are not affected.

These proposed changes to the VCS and VAS design as described in the current licensing basis do not have an adverse effect on any of the design functions of the systems. The proposed changes do not affect the support, design, or operation of mechanical and fluid systems required to mitigate the consequences of an accident. There is no change to plant systems or the response of systemsto postulated accident conditions. There is no change to the predicted radioactive releases due to postulated accident conditions. The plant response to previously evaluated accidents or external events is not adversely affected, nor do the proposed changes create any new accident precursors. The proposed changes do not affect the prevention and mitigation of other abnormal events, e.g., anticipated operational occurrences, earthquakes, floods and turbine missiles, or their safety or design analyses. Therefore, the consequences of the accidents evaluated in the UFSAR are not affected.

Therefore, the requested amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created. The proposed changes revise the VCS and VAS design as described in the current licensing basis to enable the systems to perform required design functions. These proposed changes do not adversely affect any other SSC design functions or methods of operation in a manner that results in a new failure mode, malfunction, or sequence of events that affect safety-related or nonsafety-related equipment. Therefore, this activity does not allow for a new fission product release path, result in a new fission product barrier failure mode, or create a new sequence of events resulting in significant fuel cladding failures.

Therefore, the requested amendment does not create the possibility of a new or different kind of accident from any accident previously evaluated.

3. Does the proposed amendment involve a significant reduction in a margin of safety?

Response: No.

The proposed changes maintain existing safety margins. The proposed changes to the VCS and VAS do not affect any safety-related design function. These changes do not adversely affect any design code, function, design analysis, safety analysis input or result, or design/safety margin. No safety analysis or design basis acceptance limit/criterion is challenged or exceeded by the proposed changes, and no margin of safety is reduced.

Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius, LLC, 111 Pennsylvania NW., Washington, DC 20004-2514.

NRC Branch Chief: Jennifer Dixon-Herrity.

Southern Nuclear Operating Company, Docket Nos. 52-025 and 52-026, Vogtle Electric Generating Plant Units 3 and 4, Burke County, Georgia

Date of amendment request: January 20, 2017. A publicly-available version is in ADAMS under Accession No. ML17020A109.

Description of amendment request: The amendment request proposes changes to the Updated Final Safety Analysis Report (UFSAR) in the form of departures from plant-specific Design Control Document (PS-DCD) Tier 2 information, Combined License (COL) Appendix A Technical Specifications, and COL Appendix C. The proposed departures consist of in-containment refueling water storage tank (IRWST) minimum volume changes in plant-specific UFSAR Table 14.3-2, COL Appendix A Technical Specifications 3.5.6, 3.5.7 and 3.5.8, Surveillance Requirements 3.5.6.2 and 3.5.8.2 and COL Appendix C (and associated plant-specific Tier 1) Table 2.2.3-4. The proposed changes restore consistency of these sections with the UFSAR IRWST minimum volume value in other locations. Because, this proposed change requires a departure from Tier 1 information in the Westinghouse Electric Company's AP1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not affect the operation of any systems or equipment that initiate an analyzed accident or alter any structure, system, or component (SSC) accident initiator or initiating sequence of events. The proposed changes do not affect the physical design and operation of the in-containment refueling water storage tank (IRWST), including as-installed inspections, testing, and maintenance requirements, as described in the Updated Final Safety Analysis Report (UFSAR). Therefore, the operation of the IRWST is not affected. There are no inadvertent operations or failures of the IRWST considered as accident initiators or part of an initiating sequence of events for an accident previously evaluated. Therefore, the probabilities of the accidents previously evaluated in the UFSAR are not affected.

The proposed changes do not adversely affect the ability of the IRWST to perform its design functions. The design of the IRWST continues to meet the same regulatory acceptance criteria, codes, and standards as required by the UFSAR. In addition, the proposed changes maintain the capabilities of the IRWST to mitigate the consequences of an accident and to meet the applicable regulatory acceptance criteria. The proposed changes do not affect the prevention and mitigation of other abnormal events; e.g., anticipated operational occurrences, earthquakes, floods and turbine missiles, or their safety or design analyses. Therefore, the consequences of the accidents evaluated in the UFSAR are not affected.

Therefore, the requested amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created. The proposed changes do not affect the physical design and operation of the IRWST, including as-installed inspections, testing, and maintenance requirements, as described in the UFSAR. Therefore, the operation of the IRWST is not affected. These proposed changes do not adversely affect any other SSC design functions or methods of operation in a manner that results in a new failure mode, malfunction, or sequence of events that affect safety-related or nonsafety-related equipment. Therefore, this activity does not allow for a new fission product release path, result in a new fission product barrier failure mode, or create a new sequence of events that results in significant fuel cladding failures.

Therefore, the proposed amendment does not create the possibility of a new or different kind of accident from any accident previously evaluated.

3. Does the proposed amendment involve a significant reduction in a margin of safety?

Response: No.

The proposed changes maintain existing safety margins. The proposed changes maintain the capabilities of the IRWST to perform its design functions. The proposed changes maintain existing safety margin through continued application of the existing requirements of the UFSAR, while updating the acceptance criteria for verifying the design features necessary to ensure the IRWST performs the design functions required to meet the existing safety margins in the safety analyses. Therefore, the proposed changes satisfy the same design functions in accordance with the same codes and standards as stated in the UFSAR. These changes do no adversely affect any design code, function, design analysis, safety analysis input or result, or design/safety margin.

No safety analysis or design basis acceptance limit/criterion is challenged or exceeded by the proposed changes, and no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: October 20, 2016. A publicly-available version is in ADAMS under Accession No. ML16294A521.

Description of amendment request: The amendment request proposes a change to Updated Final Safety Analysis Report (UFSAR) Tier 2* information to specify the supplemental requirement of American Institute of Steel Construction (AISC) N690-1994, “American National Standard Specification for the Design, Fabrication, and Erection of Steel Safety-Related Structures for Nuclear Facilities,” (AISC N690-1994), Section Q1.26.2.2, “Partial-Penetration Welds,” for the demonstration of sufficient strength and quality of the carbon steel embedment plate coupler welds to be credited as justification for the determination that the installed coupler welds are capable of performing their intended design function. The requested amendment proposes a change to Tier 2* information. This submittal requests approval of the license amendment necessary to implement these changes.

Basis for proposed no significant hazards consideration determination: As required by 10 CFR 50.91(a), the licensee has provided its analysis of the issue of no significant hazards consideration, which is presented below:

1. Does the proposed amendment involve a significant increase in the probability or consequences of an accident previously evaluated?

Response: No.

The proposed change describes how evaluation of coupler strength, and by extension, weld strength and quality are used to demonstrate the capacity of partial joint penetrate on (PJP) welds with fillet weld reinforcement joining weldable couplers to carbon steel embedment plates as being able to perform their intended design function in lieu of satisfying the American Institute of Steel Construction (AISC) N690-1994, Section Q1.26.2.2 requirement for non-destructive examination (NDE) on 10 percent weld populations. The proposed change does not affect the operation of any systems or equipment that initiate an analyzed accident or alter any structures, systems, and components (SSCs) accident initiator or initiating sequence of events.

The change has no adverse effect on the design function of the mechanical couplers or the SSCs to which the mechanical couplers are welded. The probabilities of the accidents evaluated in the Updated Final Safety Analysis Report (UFSAR) are not affected.

The change does not impact the support, design, or operation of mechanical or fluid systems. The change does not impact the support, design, or operation of any safety-related structures. There is no change to plant systems or the response of systems to postulated accident conditions. There is no change to the predicted radioactive releases due to normal operation or postulated accident conditions. The plant response to previously evaluated accidents or external events is not adversely affected, nor does the proposed change create any new accident precursors.

Therefore, the requested amendment does not involve a significant increase in the probability or consequences of an accident previously evaluated.

2. Does the proposed amendment create the possibility of a new or different kind of accident from any accident previously evaluated?

Response: No.

The proposed change describes how evaluation of coupler strength, and by extension, weld strength and quality are used to demonstrate the capacity of PJP welds with fillet weld reinforcement joining weldable couplers to carbon steel embedment plates as being able to perform their design function in lieu of satisfying the AISC N690-1994, Section Q1.26.2.2 requirement for non-destructive examination on 10 percent weld populations. The proposed change does not affect the operation of any systems or equipment that may initiate a new or different kind of accident, or alter any SSC such that a new accident initiator or initiating sequence of events is created.

The proposed change does not adversely affect the design function of the mechanical couplers, the structures in which the couplers are used, or any other SSC design functions or methods of operation in a manner that results in a new failure mode, malfunction, or sequence of events that affect safety-related or nonsafety-related equipment. This activity does not allow for a new fission product release path, result in a new fission product barrier failure mode, or create a new sequence of events that result in significant fuel cladding failures.

Therefore, the requested amendment does not create the possibility of a new or different kind of accident from any accident previously evaluated.

3. Does the proposed amendment involve a significant reduction in a margin of safety?

Response: No.

The proposed change describes how evaluation of coupler strength, and by extension, weld strength and quality are used to demonstrate the capacity of PJP welds with fillet weld reinforcement joining weldable couplers to carbon steel embedment plates as being able to perform their design function in lieu of satisfying the AISC N690-1994, Section Q1.26.2.2 requirement for non-destructive examination on 10 percent weld populations. The proposed change satisfies the same design functions in accordance with the same codes and standards as stated in the UFSAR. This change does not adversely affect compliance with any design code, function, design analysis, safety analysis input or result, or design/safety margin. No safety analysis or design basis acceptance limit/criterion is challenged or exceeded by the proposed change. Because no safety analysis or design basis acceptance limit/criterion is challenged or exceeded by this change, no significant margin of safety is reduced.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: December 9, 2016. A publicly-available version is in ADAMS under Accession No. ML16344A411.

Description of amendment request: The requested amendment consist of changes to plant-specific Tier 1 (and Combined License Appendix C) Tables 2.7.5-1, 2.7.5-2, and 2.7.7-3 and associated Updated Final Safety Analysis Report (UFSAR) text, tables, and figures related to: (1) Modifying the configuration of the containment recirculation fan coil unit assemblies of the containment recirculation cooling system (VCS), and revising the values for the various design parameters affected by this re-configuration, (2) adding a fourth pressure differential indicator to the radiologically controlled area ventilation system (VAS) to be located in the auxiliary building component cooling system valve room, and (3) reducing the total ventilation flow provided through the VAS fuel handling area ventilation subsystem as a result of a reduction in heat loads in the areas serviced by the VAS.

Pursuant to the provisions of 10 CFR 52.63(b)(1), an exemption from elements of the design as certified in the 10 CFR part 52, Appendix D, design certification rule is also requested for the plant-specific Design Control Document Tier 1 material departures.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the containment recirculation cooling system (VCS) include control of the air temperature and reduction of humidity in the containment to provide a suitable environment for equipment operability during normal power operation, and for personnel accessibility and equipment operability during refueling and shutdown. The proposed changes for the VCS address changes in total required design air flow rates and total design cooling and heating requirements, thereby maintaining these design functions.

The design functions of the radiologically controlled area ventilation system (VAS) include prevention of the unmonitored release of airborne radioactivity to the atmosphere or adjacent plant areas, by maintaining a negative pressure differential in radiologically controlled areas of the auxiliary building, maintaining occupied areas and access and equipment areas within their design temperature range, and providing outside air for plant personnel. The proposed changes for the VAS enable pressure differential monitoring and control for an area of the auxiliary building that is physically remote and separate from the currently monitored and controlled areas, and provide VAS supply air flow rate and total ventilation flow through the auxiliary building fuel handling area required to maintain occupied areas and access and equipment areas within their design temperature range and to provide outside air for plant personnel, maintaining these design functions.

The proposed changes do not affect the operation of any systems or equipment that initiate an analyzed accident or alter any structure, system, or component (SSC) accident initiator or initiating sequence of events. There are no inadvertent operations or failures of the VCS or VAS considered as accident initiators or part of an initiating sequence of events for an accident previously evaluated. Therefore, the probabilities of the accidents previously evaluated in the UFSAR are not affected.

These proposed changes to the VCS and VAS design as described in the current licensing basis do not have an adverse effect on any of the design functions of the systems. The proposed changes do not affect the support, design, or operation of mechanical and fluid systems required to mitigate the consequences of an accident. There is no change to plant systems or the response of systems to postulated accident conditions. There is no change to the predicted radioactive releases due to postulated accident conditions. The plant response to previously evaluated accidents or external events is not adversely affected, nor do the proposed changes create any new accident precursors. The proposed changes do not affect the prevention and mitigation of other abnormal events, e.g., anticipated operational occurrences, earthquakes, floods and turbine missiles, or their safety or design analyses. Therefore, the consequences of the accidents evaluated in the UFSAR are not affected.

Therefore, the requested amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created. The proposed changes revise the VCS and VAS design as described in the current licensing basis to enable the systems to perform required design functions. These proposed changes do not adversely affect any other SSC design functions or methods of operation in a manner that results in a new failure mode, malfunction, or sequence of events that affect safety-related or nonsafety-related equipment. Therefore, this activity does not allow for a new fission product release path, result in a new fission product barrier failure mode, or create a new sequence of events resulting in significant fuel cladding failures.

Therefore, the requested amendment does not create the possibility of a new or different kind of accident from any accident previously evaluated.

3. Does the proposed amendment involve a significant reduction in a margin of safety?

Response: No.

The proposed changes maintain existing safety margins. The proposed changes to the VCS and VAS do not affect any safety-related design function. These changes do not adversely affect any design code, function, design analysis, safety analysis input or result, or design/safety margin. No safety analysis or design basis acceptance limit/criterion is challenged or exceeded by the proposed changes, and no margin of safety is reduced.

Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Tennessee Valley Authority, Docket No. 50-391, Watts Bar Nuclear Plant (WBN), Unit 2, Rhea County, Tennessee

Date of amendment request: February 16, 2017. A publicly-available version is in ADAMS under Accession No. ML17048A514.

Description of amendment request: The amendment would revise the Technical Specification (TS) Containment Leakage Rate Testing Program to allow a one-time extension for the Type C local leak rate test (LLRT) for certain containment isolation valves (CIVs). The proposed amendment would allow the extension of the test frequency from 30 months to a maximum of 37 months.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment is a change to TS 5.7.2.19 to allow a one-time exception to [Regulatory Guide] (RG) 1.163, “Performance-Based Containment Leak-Test Program,” September 1995 (ADAMS Accession No. ML003740058)] to extend the Type C LLRTs for a limited number of CIVs. The valves for which the extension of the LLRT interval is being requested are leak-tight and in good condition. The total leakage of these valves [i.e., 0.24 standard cubic feet per hour (scfh)] is approximately 0.16 percent (%) of the total allowable leakage (La) for the WBN Unit 2 Type B and C tests (i.e., 147.6 scfh, which is the TS 60% La limit). For comparison purposes, the WBN Unit 2 total leak rate for all penetrations on a minimum path basis is approximately 4.5% of the total allowable leakage (i.e., 6.64 scfh/147.6 scfh).

The total leakage of the CIVs for which an extension is requested is also approximately 0.39% of the total allowable bypass leakage for the WBN Unit 2 Type B and C bypass tests (61.5 scfh, which is the TS 25% La limit). For comparison purposes, the WBN Unit 2 total leakage for all bypass leakage penetrations on a minimum path basis is approximately 4.4% of the total allowable bypass leakage (i.e., 2.68 scfh/61.5 scfh). The leak-tight condition of these components has been verified by Type C LLRTs. Therefore, the remaining margin is sufficient to ensure any incremental increase in leakage resulting from the extension would not cause unacceptable as-found test results during the WBN U2R1 outage. Therefore, the proposed delay in performance of the LLRTs in this amendment request does not increase the probability of an accident previously evaluated.

A delay in performing these LLRTs does not result in a system being unable to perform its required function. In the case of this one-time extension request, the short period of additional time that the affected systems and components will be in service before the next performance of the LLRT will not affect the ability of those systems to operate as designed. Therefore, the systems required to mitigate accidents will remain capable of performing their required function. No new failure modes have been introduced because of this action and the consequences remain consistent with previously evaluated accidents. On this basis, the proposed delay in performance of the LLRTs in this amendment request does not involve a significant increase in the consequences of an accident.

Therefore, the proposed change does not involve a significant increase in the probability or consequences of an accident previously evaluated.

2. Does the proposed amendment create the possibility of a new or different kind of accident from any previously evaluated?

Response: No.

The proposed amendment does not involve a physical alteration of any system, structure, or component (SSC) or a change in the way any SSC is operated. The proposed amendment does not involve operation of any SSCs in a manner or configuration different from those previously recognized or evaluated. No new failure mechanisms will be introduced by the one-time LLRT extensions being requested.

Therefore, the proposed change does not create the possibility of a new or different kind of accident from any accident previously evaluated.

3. Does the proposed amendment involve a significant reduction in a margin of safety?

Response: No.

The proposed amendment is a change to TS 5.7.2.19 to allow a one-time exception to RG 1.163 to extend the Type C LLRTs for a limited number of CIVs. The WBN Unit 2 CIVs, for which an extension is requested, are the same design as those in WBN Unit 1 and operate under the same service conditions. Furthermore, any increase in leakage because of the extension is expected to be within TS limits and will not compromise containment integrity. Extending these LLRTs does not involve a modification of any TS limiting condition for operation. Extending these LLRTs does not involve a change to any limit on accident consequences specified in the license or regulations. Extending these LLRTs does not involve a change in how accidents are mitigated or a significant increase in the consequences of an accident. Extending these LLRTs does not involve a change in a methodology used to evaluate consequences of an accident. Extending these LLRTs does not involve a change in any operating procedure or process.

Based on the limited additional period of time that the systems and components will be in service before the LLRTs are next performed, as well as the operating experience that demonstrates the reliability of the CIVs, it is reasonable to conclude that the margins of safety associated with the LLRTs for these CIVs will not be affected by the requested extension.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Sherry A. Quirk, Executive Vice President and General Counsel, Tennessee Valley Authority, 400 West Summit Hill Drive, 6A West Tower, Knoxville, Tennessee 37902.

NRC Branch Chief: Benjamin G. Beasley.

Tennessee Valley Authority, Docket Nos. 50-390 and 50-391, Watts Bar Nuclear Plant, Units 1 and 2, Rhea County, Tennessee

Date of amendment request: November 23, 2016. A publicly-available version is in ADAMS under Accession No. ML16335A179.

Description of amendment request: The amendments would revise the Technical Specification (TS) requirements on control and shutdown rods, and rod and bank position indication. The proposed amendments adopt the changes contained in Technical Specification Task Force (TSTF) traveler TSTF-547, Revision 1, “Clarification of Rod Position Requirements,” with minor variations as described in the application.

Basis for proposed no significant hazards consideration determination: As required by 10 CFR 50.91(a), the licensee has provided its analysis of the issue of no significant hazards consideration, which is presented below:

1. Does the proposed amendment involve a significant increase in the probability or consequences of an accident previously evaluated?

Response: No.

Control and shutdown rods are assumed to insert into the core to shut down the reactor in evaluated accidents. Rod insertion limits ensure that adequate negative reactivity is available to provide the assumed shutdown margin (SDM). Rod alignment and overlap limits maintain an appropriate power distribution and reactivity insertion profile.

Control and shutdown rods are initiators to several accidents previously evaluated, such as rod ejection. The proposed change does change the limiting conditions for operation for the rods and makes technical changes to the Surveillance Requirements (SRs) governing the rods. However, the proposed change has no significant effect on the probability of any accident previously evaluated.

Revising the TS Actions to provide a limited time to repair rod movement control has no effect on the SDM assumed in the accident analysis as the proposed Action require verification that SDM is maintained. The effects on power distribution will not cause a significant increase in the consequences of any accident previously evaluated as all TS requirements on power distribution continue to be applicable. Revising the TS Actions to provide an alternative to frequent use of the moveable incore detector system to verify the position of rods with inoperable rod position indicator does not change the requirement for the rods to be aligned and within the insertion limits.

Therefore, the assumptions used in any accidents previously evaluated are unchanged and there is no significant increase in the consequences.

The consequences of an accident that might occur during the 1-hour period provided for the analog rod position indication to stabilize after rod movement are no different than the consequences of the accident under the existing actions with the rod declared inoperable.

The proposed change to resolve the conflicts in the TS ensure that the intended Actions are followed when equipment is inoperable. Actions taken with inoperable equipment are not assumptions in the accidents previously evaluated and have no significant effect on the consequences.

The proposed change to eliminate an unnecessary action has no effect on the consequences of accidents previously evaluated as the analysis of those accidents did not consider the use of the action.

The proposed change to increase consistency within the TS has no effect on the consequences of accidents previously evaluated as the proposed change clarifies the application of the existing requirements and does not change the intent.

Therefore, the proposed change does not involve a significant increase in the probability or consequences of an accident previously evaluated.

2. Does the proposed amendment create the possibility of a new or different kind of accident from any previously evaluated?

Response: No.

The proposed change does not involve a physical alteration of the plant (i.e., no new or different type of equipment will be installed). The change does not alter assumptions made in the safety analyses. The proposed change does alter the limiting conditions for operation for the rods and makes technical changes to the SRs governing the rods. However, the proposed change to actions maintains or improves safety when equipment is inoperable and does not introduce new failure modes.

Therefore, the proposed change does not create the possibility of a new or different kind of accident from any previously evaluated.

3. Does the proposed amendment involve a significant reduction in a margin of safety?

Response: No.

The proposed change to allow time for rod position indication to stabilize after rod movement and to allow an alternative method of verifying rod position has no effect on the safety margin as actual rod position is not affected. The proposed change to provide time to repair rods that are Operable but immovable does not result in a significant reduction in the margin of safety because all rods must be verified to be Operable, and all other banks must be within the insertion limits. The remaining proposed changes to make the requirements internally consistent and to eliminate unnecessary actions do not affect the margin of safety as the changes do not affect the ability of the rods to perform their specified safety function.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Sherry A. Quirk, Executive Vice President and General Counsel, Tennessee Valley Authority, 400 West Summit Hill Drive, 6A West Tower, Knoxville, Tennessee 37902.

NRC Branch Chief: Benjamin G. Beasley.

Virginia Electric and Power Company, Docket Nos. 50-280 and 50-281, Surry Power Station, Unit Nos. 1 and 2, Surry County, Virginia

Date of amendment request: January 20, 2017. A publicly-available version is in ADAMS under Accession No. ML17026A174.

Description of amendment request: The amendments would revise the Technical Specification (TS) 3.5, “Residual Heat Removal System,” requirements, as well as the TS 3.13, “Component Cooling System,” residual heat removal (RHR) support requirements for the component cooling system, for consistency with the design basis of the RHR system. In addition, an RHR surveillance requirement is added in TS Table 4.1-2A, “Minimum Frequency for Equipment Tests,” to test the RHR system in accordance with the inservice testing program, since a TS surveillance does not currently exist for this system.

Basis for proposed no significant hazards consideration determination: As required by 10 CFR 50.91(a), the licensee has provided its analysis of the issue of no significant hazards consideration, which is presented below:

1. Does the proposed license amendment involve a significant increase in the probability or consequences of an accident previously evaluated?

Response: No.

The proposed change revises the TS requirements for consistency with the design basis of the RHR System. The proposed change has no impact on the design function of any structures, systems, or components (SSCs), including the RHR System. The proposed change does not impact plant operation and does not change any of the previously evaluated accidents in the Updated Final Safety Analysis Report (UFSAR).

Thus, this change does not involve a significant increase in the probability or consequences of an accident previously evaluated.

2. Does the proposed license amendment create the possibility of a new or different kind of accident from any accident previously evaluated?

Response: No.

The proposed change does not involve a physical change to any SSCs (i.e., no new or different type of equipment will be installed) and does not impact plant operation. Furthermore, the proposed change does not impose any new or different requirements that could initiate an accident and does not affect initiators of analyzed events.

Therefore, the proposed change does not introduce any new failures that could create the possibility of a new or different kind of accident from any accident previously evaluated.

3. Does the proposed amendment involve a significant reduction in a margin of safety?

Response: No.

The proposed change does not adversely affect any current plant safety margins or the reliability of the equipment assumed in the safety analysis. There are no changes being made to any safety analysis assumptions, safety limits, or limiting safety system settings that would adversely affect plant safety as a result of the proposed change. The RHR System has no accident mitigation function and its operation is not assumed in any safety analyses. Thus, the proposed change does not impact the condition or performance of SSCs relied upon for accident mitigation or any safety analysis assumptions.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar St., RS-2, Richmond, VA 23219.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-369 and 50-370, McGuire Nuclear Station, Units 1 and 2, Mecklenburg County, North Carolina

Date of application for amendments: March 24, 2016 as supplemented by letter dated August 11, 2016.

Brief description of amendments: The amendments revised TS 3.6.13, “Ice Condenser Doors,” to allow for an alternate method of verifying that the ice condenser doors are closed in addition to that described in the current licensing basis. Specifically, the amendments revised TS 3.6.13 Condition B to add a new alternate Required Action when one or more ice condenser lower inlet doors (LIDs) are inoperable due to having an invalid open LID signal. The new Required Action includes verifying that the affected lower inlet door is closed every 14 days in accordance with an alternate method that does not rely on the faulted alarm.

Date of issuance: February 24, 2017.

Effective date: These license amendments are effective as of its date of issuance and shall be implemented within 120 days of issuance.

Amendment Nos.: 292.

Renewed Facility Operating License Nos. NPF-9 and NPF-17: Amendments revised the licenses and technical specifications.

Date of initial notice in Federal Register: June 6, 2016 (81 FR 36617). The supplemental letter dated August 11, 2016, provided additional information that clarified the application, did not expand the scope of the application as originally noticed, and did not change the staff's original proposed no significant hazards consideration determination as published in the Federal Register.

The Commission's related evaluation of the amendments is contained in a Safety Evaluation dated February 24, 2017.

No significant hazards consideration comments received: No.

Exelon Generation Company, LLC, Docket No. 50-461, Clinton Power Station (CPS), Unit No. 1, DeWitt County, Illinois

Date of application for amendment: April 4, 2016.

Brief description of amendment: The amendment revises technical specification (TS) limiting condition of operation (LCO) 3.10.1, “Inservice Leak and Hydrostatic Testing Operation,” to expand its scope to include operations in which reactor coolant system temperature exceeds 200 degrees Fahrenheit (°F) as a consequence of inservice leak and hydrostatic testing, or as a consequence of scram time testing initiated in conjunction with an inservice leak or hydrostatic test when the initial test conditions are below 200 °F, while considering operational conditions to be in Mode 4.

Date of issuance: February 22, 2017.

Effective date: As of the date of issuance and shall be implemented within 60 days from the date of issuance.

Amendment No(s): 211. A publicly-available version is in ADAMS under Accession No. ML17027A038; documents related to this amendment are listed in the Safety Evaluation enclosed with the amendment.

Facility Operating License No. NPF-62: The amendment revised the Facility Operating License and Technical Specifications.

Date of initial notice in Federal Register: June 7, 2016 (81 FR 36620).

The Commission's related evaluation of the amendment is contained in a Safety Evaluation dated February 22, 2017.

No significant hazards consideration comments received: No.

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-254 and 50-265, Quad Cities Nuclear Power Station, Units 1 and 2, Rock Island County, Illinois

Date of application for amendments: February 3, 2016, as supplemented by letters dated July 28 and December 12, 2016.

Brief description of amendments: The amendments revise Surveillance Requirement 3.6.4.1.2, for each facility, to provide an allowance for brief, inadvertent, simultaneous opening of redundant secondary containment access doors during normal entry and exit conditions.

Date of issuance: February 16, 2017.

Effective date: As of the date of issuance and shall be implemented within 90 days from the date of issuance.

Amendment Nos.: 253, 246; 222, 208; 265, and 260. A publicly-available version is in ADAMS under Accession No. ML17037D212. Documents related to these amendments are listed in the Safety Evaluation enclosed with the amendments.

Renewed Facility Operating License Nos. DPR-19, DPR-25, NPF-11, NPF-18, DPR-29, and DPR-30: Amendments revised the Renewed Facility Operating Licenses and Technical Specifications.

Date of initial notice in Federal Register: March 29, 2016 (81 FR 17505). The supplemental letters dated July 28 and December 12, 2016, provided additional information that clarified the application, did not expand the scope of the application as originally noticed, and did not change the staff's original proposed no significant hazards consideration determination as published in the Federal Register.

The Commission's related evaluation of the amendment is contained in a safety evaluation dated February 16, 2017.

No significant hazards consideration comments received: No.

FirstEnergy Nuclear Operating Company, Docket No. 50-440, Perry Nuclear Power Plant, Unit No. 1, Lake County, Ohio

Date of amendment request: March 15, 2016, as supplemented by letters dated November 7, and December 20, 2016, and February 6, 2017.

Brief description of amendment: The amendment revised the technical specification (TS) 3.6.2.2, “Suppression Pool Water Level,” as well as TS surveillance requirements (SRs) 3.6.2.4.1 and 3.6.2.4.4 associated with TS 3.6.2.4, “Suppression Pool Makeup (SPMU) System,” to allow installation of the reactor well to steam dryer storage pool gate in the upper containment pool (UCP) in MODEs 1, 2, and 3. The amendment also created new Special Operations TS, TS 3.10.9, “Suppression Pool Makeup—MODE 3 Upper Containment Pool Drain-Down,” to allow draining of the reactor well portion of the UCP in MODE 3.

Date of issuance: February 16, 2017.

Effective date: As of the date of issuance and shall be implemented within 60 days of issuance.

Amendment No.: 174. A publicly-available version is in ADAMS under Accession No. ML17033A014; documents related to this amendment are listed in the Safety Evaluation enclosed with the amendment.

Facility Operating License No. NPF-58: Amendment revised the Facility Operating License and Technical Specifications.

Date of initial notice in Federal Register: May 10, 2016 (81 FR 28898). The supplemental letters dated November 7, and December 20, 2016, and February 6, 2017, provided additional information that clarified the application, did not expand the scope of the application as originally noticed, and did not change the staff's original proposed no significant hazards consideration determination as published in the Federal Register.

The Commission's related evaluation of the amendment is contained in a Safety Evaluation dated February 16, 2017.

No significant hazards consideration comments received: No.

Florida Power & Light Company, Docket Nos. 50-250 and 50-251, Turkey Point Nuclear Generating, Unit Nos. 3 and 4, Miami-Dade County, Florida

Date of amendment request: June 30, 2016, as supplemented by letter dated November 15, 2016.

Brief description of amendments: The amendments revised Technical Specifications (TSs) 3/4.7.1.2, “Auxiliary Feedwater System,” to correct a nonconservative TS for Turkey Point Nuclear Generating Unit Nos. 3 and 4.

Date of issuance: February 14, 2017.

Effective date: As of the date of issuance and shall be implemented within 60 days of issuance.

Amendment Nos: 273 and 268. A publicly-available version is in ADAMS under Accession No. ML16335A195; documents related to these amendments are listed in the Safety Evaluation enclosed with the amendments.

Renewed Facility Operating License Nos. DPR-31 and DPR-41: Amendment revised the Facility Operating License and Technical Specifications.

Date of initial notice in Federal Register: September 13, 2016 (81 FR 62928). The supplemental letter dated November 15, 2016, provided additional information that clarified the application, did not expand the scope of the application as originally noticed, and did not change the staff's original proposed no significant hazards consideration determination as published in the Federal Register.

The Commission's related evaluation of the amendments is contained in a Safety Evaluation dated February 14, 2017.

No significant hazards consideration comments received: No.

NextEra Energy, Point Beach, LLC, Docket Nos. 50-266 and 50-301, Point Beach Nuclear Plant, Units 1 and 2, Town of Two Creeks, Manitowoc County, Wisconsin

Date amendment requests: February 12, 2016, as supplemented by letters dated July 11, 2016, and November 4, 2016.

Brief description of amendments: The amendments revised the Point Beach Nuclear Plant, Unit 1 and 2 renewed Operating Licenses and Appendix C, “Additional Conditions,” for each license (DPR-24 and DRP-27 respectively), to remove license conditions that have been completed, and are no longer in effect. The amendments also revised a charcoal testing criterion for the control room emergency filtration system.

Date of issuance: February 22, 2017.

Effective date: As of the date of issuance and shall be implemented within 60 days of issuance.

Amendment Nos.: 258 and 262. A publicly-available version is in ADAMS under Accession No. ML17039A300; documents related to these amendments are listed in the Safety Evaluation enclosed with the amendments.

Renewed Facility Operating License Nos. DPR-24 and DPR-27: Amendments revised the Facility Operating License and Technical Specifications.

Date of initial notice in Federal Register: April 26, 2016 (81 FR 24662). The supplemental letters dated July 11, 2016, and November 4, 2016, provided additional information that clarified the application, did not expand the scope of the application as originally noticed, and did not change the staff's original proposed no significant hazards consideration determination as published in the Federal Register.

The Commission's related evaluation of the amendments is contained in a Safety Evaluation dated February 22, 2017.

No significant hazards consideration comments received: No.

Northern States Power Company—Minnesota (NSPM), Docket No. 50-263, Monticello Nuclear Generating Plant, Wright County, Minnesota

Date of amendment request: October 3, 2014, as supplemented by letters dated January 9, August 26, September 29, and December 8, 2015, and February 29, April 29, August 4, September 14, and September 28, 2016.

Brief description of amendment: The amendment revised the Technical Specifications (TSs) and Renewed Facility Operating Licenses to allow operation in the extended flow window (EFW) domain.

Date of issuance: February 23, 2017.

Effective date: As of the date of issuance and shall be implemented prior to start up from Monticello Nuclear Generating Plant Operating Cycle 29.

Amendment No.: 191. A publicly-available version is in ADAMS under Accession No. ML17054C394; documents related to this amendment are listed in the Safety Evaluation enclosed with the amendment.

Renewed Facility Operating License No. DPR-22. Amendment revised the Renewed Facility Operating License and Technical Specifications.

Date of initial notice in Federal Register: July 7, 2015 (80 FR 38775). The supplemental letters dated January 9, August 26, September 29, and December 8, 2015, and February 29, April 29, August 4, September 14, and September 28, 2016, provided additional information that clarified the application, did not expand the scope of the application as originally noticed, and did not change the staff's original proposed no significant hazards consideration determination as published in the Federal Register.

The Commission's related evaluation of the amendment is contained in a Safety Evaluation dated February 23, 2017.

No significant hazards consideration comments received: No.

Northern States Power Company—Minnesota (NSPM), Docket No. 50-263, Monticello Nuclear Generating Plant, Wright County, Minnesota

Date of amendment request: April 4, 2016, as supplemented by letters dated October 3 and November 22, 2016.

Brief description of amendment: The amendment revises technical specifications (TS) Surveillance Requirement (SR) associated with TS 3.8.4, “DC [direct current] Sources—Operating.” Specifically, the amendment revises SR 3.8.4.2 by increasing the 125 Volt DC battery charger test output current to 75 amperes (amps) from the current test level of 50 amps, and removes the second (alternate) method specified to perform the surveillance requirement.

Date of issuance: February 27, 2017.

Effective date: As of the date of issuance and shall be implemented within 120 days of issuance.

Amendment No.: 192. A publicly-available version is in ADAMS under Accession No. ML17013A435; documents related to this amendment are listed in the Safety Evaluation enclosed with the amendment.

Renewed Facility Operating License No. DPR-22. Amendment revised the Renewed Facility Operating License and Technical Specifications.

Date of initial notice in Federal Register: June 7, 2016 (81 FR 36621). The supplemental letters dated October 3 and November 22, 2016, provided additional information that clarified the application, did not expand the scope of the application as originally noticed, and did not change the staff's original proposed no significant hazards consideration determination.

The Commission's related evaluation of the amendment is contained in a Safety Evaluation dated February 27, 2017.

No significant hazards consideration comments received: No.

Pacific Gas and Electric Company, Docket Nos. 50-275 and 50-323, Diablo Canyon Nuclear Power Plant, Units 1 and 2, San Luis Obispo County, California

Date of application for amendments: March 23, 2016, as supplemented by letters dated September 28, 2016 and January 18, 2017.

Brief description of amendments: The amendments revised Technical Specification (TS) 3.4.12, “Low Temperature Overpressure Protection (LTOP) System,” to reflect the mass input transient analysis that assumes an emergency core cooling system centrifugal charging pump and the normal charging pump capable of simultaneously injecting into the reactor coolant system during TS 3.4.12 applicability.

Date of issuance: February 23, 2017.

Effective date: As of its date of issuance and shall be implemented within 180 days from the date of issuance.

Amendment Nos.: Unit 1-229; Unit 2-231. A publicly-available version is in ADAMS under Accession No. ML17018A341; documents related to these amendments are listed in the Safety Evaluation enclosed with the amendments.

Facility Operating License Nos. DPR-80 and DPR-82: The amendments revised the Facility Operating Licenses and Technical Specifications.

Date of initial notice in Federal Register: May 10, 2016 (81 FR 28899). The supplemental letters dated September 28, 2016 and January 18, 2017, provided additional information that clarified the application, did not expand the scope of the application as originally noticed, and did not change the staff's original proposed no significant hazards consideration determination as published in the Federal Register.

The Commission's related evaluation of the amendments is contained in a Safety Evaluation dated February 23, 2017.

No significant hazards consideration comments received: No.

Southern Nuclear Operating Company, Inc., Docket Nos. 52-025 and 50-026, Vogtle Electric Generating Plant, Units 3 and 4, Burke County, Georgia

Date of amendment request: August 31, 2016.

Brief description of amendments: The amendments changed Combined License Nos. NPF-91 and NPF-92 for the Vogtle Electric Generating Plant Units 3 and 4. The amendments authorized changes to the Updated Final Safety Analysis Report (UFSAR) in the form of departures from the incorporated plant-specific Design Control Document Tier 2* information. Specifically, the changes revised the combined operating licenses and clarified information in WCAP-17179, “AP1000® Component Interface Module Technical Report,” which demonstrates design compliance with licensing bases requirements. WCAP-17179 is incorporated by reference into the UFSAR to provide additional details regarding the component interface module (CIM) system design. The amendments also authorized a change to the CIM internal power supply that will enable proper functioning of the field programmable gate arrays.

Date of issuance: February 9, 2017.

Effective date: As of the date of issuance and shall be implemented within 30 days of issuance.

Amendment Nos.: 70/69. A publicly-available version is in ADAMS under Accession No. ML16343B021; documents related to these amendments are listed in the Safety Evaluation enclosed with the amendments.

Facility Operating License No. NPF-91 and NPF-92: Amendments authorized changes to the UFSAR in the form of departures from the incorporated plant-specific DCD Tier 2* information.

Date of initial notice in Federal Register: October 25, 2016 (81 FR 73440).

The Commission's related evaluation of the amendment is contained in a Safety Evaluation dated February 9, 2017.

No significant hazards consideration comments received: No.

Southern Nuclear Operating Company, Docket Nos. 50-348 and 50-364, Joseph M. Farley Nuclear Plant, Units 1 and 2, Houston County, Alabama

Date of amendment request: October 11, 2016.

Brief description of amendments: The amendment revises TS requirements for unavailable barriers by adding Limiting Condition for Operation (LCO) 3.0.9, which allows a delay time for entering a supported system TS, when the inoperability is solely due to an unavailable barrier. The change is consistent with Technical Specification Task Force (TSTF)-427, Revision 2, “Allowance for Non-Technical Specification Barrier Degradation Supported System OPERABILITY.”

Date of issuance: February 16, 2017.

Effective date: As of the date of issuance and shall be implemented within 90 days of issuance.

Amendment Nos.: 208 (Unit 1) and 205 (Unit 2). A publicly-available version is in ADAMS under Accession No. ML17034A193; documents related to these amendments are listed in the Safety Evaluation enclosed with the amendments.

Renewed Facility Operating License Nos. NPF-2 and NPF-8: The amendments revised the Renewed Facility Operating Licenses and Technical Specifications.

Date of initial notice in Federal Register: December 6, 2016 (81 FR 87973).

The Commission's related evaluation of the amendments is contained in a Safety Evaluation dated February 16, 2017.

No significant hazards consideration comments received: No.

Tennessee Valley Authority, Docket Nos. 50-390 and 50-391, Watts Bar Nuclear Plant (WBN), Units 1 and 2, Rhea County, Tennessee

Date of amendment request: March 29, 2016.

Brief description of amendment: The amendments revise the WBN, Units 1 and 2, Technical Specification (TS) requirements for inoperable dynamic restraints (snubbers) by adding Limiting Condition for Operation (LCO) 3.0.8. The change is consistent with NRC-approved Revision 4 to Technical Specifications Task Force (TSTF) Standard Technical Specifications Change Traveler, TSTF-372, “Addition of LCO 3.0.8, Inoperability of Snubbers.”

The amendment for WBN, Unit 1, also makes an administrative change to add a reference to LCO 3.0.7 in LCO 3.0.1, consistent with TSTF-6, Revision 1, “Add exception for LCO 3.0.7 to LCO 3.0.1.”

Date of issuance: February 23, 2017.

Effective date: As of the date of issuance and shall be implemented within 45 days of issuance.

Amendment Nos.: 6 and 111. A publicly available version is in ADAMS under Accession No. ML16349A428; documents related to these amendments are listed in the Safety Evaluation enclosed with the amendments.

Facility Operating License Nos. NPF-90 and NPF-96: Amendments revised the Facility Operating Licenses and Technical Specifications.

Date of initial notice in Federal Register: November 22, 2016 (81 FR 83878).

The Commission's related evaluation of the amendments is contained in a Safety Evaluation dated February 23, 2017.

No significant hazards consideration comments received: No.

Dated at Rockville, Maryland, this 1st day of March 2017.
For the Nuclear Regulatory Commission.
Anne T. Boland,
Director, Division of Operating Reactor Licensing, Office of Nuclear Reactor Regulation.

[FR Doc. 2017-04757 Filed 3-13-17; 8:45 am]

BILLING CODE 7590-01-P